DEPARTMENT OF HEALTH AND HUMAN SERVICES

Centers for Medicare & Medicaid Services

[Document Identifier: CMS-R-214, CMS-179, CMS-367, 367-A, 367-C and CMS-417]

Agency Information Collection Activities: Submission for OMB Review; Comment Request

AGENCY: Centers for Medicare & Medicaid Services, HHS.

In compliance with the requirement of section 3506(c)(2)(A) of the Paperwork Reduction Act of 1995, the Centers for Medicare & Medicaid Services (CMS) (formerly known as the Health Care Financing Administration (HCFA)), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Extension of a currently approved collection; Title of Information Collection: Independent Diagnostic Testing Facility and Supporting Regulations contained in 42 CFR 410.33; Form No.: CMS-R-214 (OMB# 0938-0721); Use: The information collection requirements associated with an Independent Diagnostic Testing Facilities involve documentation of proficiency of medical personnel and of resources; Frequency: Annually; Affected Public: Business or other for-profit, Federal Government and State, local and tribal government; Number of Respondents: 500; Total Annual Responses: 500; Total Annual Hours: 42.

2. Type of Information Request: Extension of a currently approved collection; Title of Information Collection: Transmittal and Notice of Approval of State Plan Material and Supporting Regulations in 42 CFR 430.10-430.20 and 440.167; Form Number: CMS-179 (OMB approval #: 0938-0193); Use: Form CMS-179 is used by State agencies to transmit State plan material to CMS for approval prior to amending their State plans; Frequency: On occasion; Affected Public: State, local or tribal gov't; Number of Respondents: 56; Total Annual Responses: 56; Total Annual Hours Requested: 560.

3. Type of Information Collection Request: Revision of a currently approved collection; Title of Information Collection: Medicaid Drug Rebate Program—Manufacturers; Form No.: 0938-0578 (CMS-367, 367a, and 367c); Use: Section 1927 requires drug manufacturers to enter into and have in effect a rebate agreement with the Federal Government for States to receive funding for drugs dispensed to Medicaid recipients; Frequency: Quarterly; Affected Public: Business or other for-profit; Number of Respondents: 570; Total Annual Responses: 2,280; Total Annual Hours: 54,780.

4. Type of Information Collection Request: Extension of a currently approved collection; Title of Information Collection: Hospice Request for Certification in the Medicare Program; Form No.: CMS-417 (OMB# 0938-0313); Use: The Hospice Request for Certification Form is used for hospice identification, screening, and to initiate the certification process. The information captured on this form is entered into a data base which assists CMS in determining whether providers have sufficient personnel to participate in the Medicare program; Frequency: Annually; Affected Public: Business or other for-profit, Not-for-profit institutions, Federal Government, and State, local or tribal government; Number of Respondents: 2,286; Total Annual Responses: 2,286; Total Annual Hours: 572.

To obtain copies of the supporting statement and any related forms for the proposed paperwork collections referenced above, access CMS Web Site address at http://cms.hhs.gov/regulations/pra/default.asp, or E-mail your request, including your address, phone number, OMB number, and CMS document identifier, to Paperwork@hcfa.gov, or call the Reports Clearance Office on (410) 786-1326. Written comments and recommendations for the proposed information collections must be mailed within 30 days of this notice directly to the OMB desk officer: OMB Human Resources and Housing Branch, Attention: Brenda Aguilar, New Executive Office Building, Room 10235, Washington, DC 20503.

Dated: May 6, 2004.
John P. Burke, III,
Paperwork Reduction Act Team Leader, CMS Reports Clearance Officer, Office of Strategic Operations and Regulatory Affairs, Division of Regulations Development and Issuances.

[FR Doc. 04-10988 Filed 5-13-04; 8:45 am]

BILLING CODE 4120-03-P